DEPARTMENT OF THE TREASURY

Office of Foreign Assets Control

31 CFR Part 520

International Criminal Court-Related Sanctions Regulations

AGENCY: Office of Foreign Assets Control, Treasury.

ACTION: Final rule.

SUMMARY: The Department of the Treasury's Office of Foreign Assets Control (OFAC) is removing from the Code of Federal Regulations the International Criminal Court-Related Sanctions Regulations as a result of the termination of the national emergency on which the regulations were based.

DATES: This rule is effective July 6, 2021.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treasury.gov/ofac.

Background

On June 11, 2020, the President, invoking the authority of, inter alia, the International Emergency Economic Powers Act (50 U.S.C. 1701-1706) (IEEPA), issued Executive Order (E.O.) 13928 (85 FR 36139, June 15, 2020), “Blocking Property of Certain Persons Associated With the International Criminal Court.” In E.O. 13928, the President found that the International Criminal Court's (ICC) assertions of jurisdiction over personnel of the United States and certain of its allies threatened to subject current and former United States Government and allied officials to harassment, abuse, and possible arrest, and that these actions on the part of the ICC, in turn, threatened to infringe upon the sovereignty of the United States. The President therefore determined that any attempt by the ICC to investigate, arrest, detain, or prosecute any United States personnel without the consent of the United States, or of personnel of countries that are United States allies and who are not parties to the Rome Statute or have not otherwise consented to ICC jurisdiction, constituted an unusual and extraordinary threat to the national security and foreign policy of the United States and declared a national emergency to deal with that threat.

On October 1, 2020, OFAC issued the International Criminal Court-Related Sanctions Regulations, 31 CFR part 520 (85 FR 61816, October 1, 2020) (the “Regulations”), as a final rule to implement E.O. 13928. The Regulations were issued in abbreviated form for the purpose of providing immediate guidance to the public.

On April 1, 2021, the President issued E.O. 14022, “Termination of Emergency With Respect to the International Criminal Court” (86 FR 17895, April 7, 2021). In E.O. 14022, the President found that, although the United States continues to object to the ICC's assertions of jurisdiction over personnel of such non-States Parties as the United States and its allies absent their consent or referral by the United Nations Security Council, the threat and imposition of financial sanctions against the ICC, its personnel, and those who assist it are not an effective or appropriate strategy for addressing the United States' concerns with the ICC. Accordingly, the President terminated the national emergency declared in E.O. 13928 and revoked that order.

As a result, OFAC is removing the Regulations from the Code of Federal Regulations. Pursuant to section 202(a) of the National Emergencies Act (50 U.S.C. 1622(a)) and section 2 of E.O. 14022, termination of the national emergency declared in E.O. 13928 shall not affect any action taken or proceeding pending not finally concluded or determined as of April 1, 2021 (the date of E.O. 14022), any action or proceeding based on any act committed prior to the date of E.O. 14022, or any rights or duties that matured or penalties that were incurred prior to the date of E.O. 14022.

Public Participation

Because the Regulations involve a foreign affairs function, the provisions of E.O. 12866 of September 30, 1993, “Regulatory Planning and Review” (58 FR 51735, October 4, 1993), and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The Paperwork Reduction Act does not apply because this rule does not impose information collection requirements that would require the approval of the Office of Management and Budget under 44 U.S.C. 3501 et seq.

List of Subjects in 31 CFR Part 520

Administrative practice and procedure, Banks, Banking, Blocking of assets, International criminal court, Penalties, Reporting and recordkeeping requirements, Sanctions.

PART 520—[REMOVED]

For the reasons set forth in the preamble, and pursuant to 50 U.S.C. 1601-1651 and E.O. 14022 (86 FR 17895, April 7, 2021), OFAC amends 31 CFR chapter V by removing part 520.

Dated: June 30, 2021.
Bradley T. Smith,
Acting Director, Office of Foreign Assets Control.

[FR Doc. 2021-14337 Filed 7-2-21; 8:45 am]

BILLING CODE 4810-AL-P